DEPARTMENT OF ENERGY

Federal Energy Regulatory Commission

[Project No. 2343-086]

PE Hydro Generation, LLC; Notice of Application Tendered for Filing With the Commission and Establishing Procedural Schedule for Licensing and Deadline for Submission of Final Amendments

Take notice that the following hydroelectric application has been filed with the Commission and is available for public inspection.

a. Type of Application: New Major License.

b. Project No.: 2343-086.

c. Date Filed: December 30, 2015.

d. Applicant: PE Hydro Generation, LLC (PE Hydro).

e. Name of Project: Millville Hydroelectric Project.

f. Location: The existing project is located on the Shenandoah River, near the town of Harpers Ferry in Jefferson County, West Virginia. No federal lands are occupied by project works or located within the project boundary.

g. Filed Pursuant to: Federal Power Act, 16 U.S.C. 791 (a)-825(r).

h. Applicant Contact: Juan Kimble, President, PE Hydro Generation, LLC, 5425 Wisconsin Avenue, 6th Floor, Chevy Chase, MD 20815; Telephone—(301) 718-4496.

i. FERC Contact: Michael Spencer, (202) 502-6093, or michael.spencer@ferc.gov.

j. This application is not ready for environmental analysis (EA) at this time.

k. Project Description: The Millville project consists of: (1) A 14.0-foot-high concrete and stone dam consisting of three sections: a 36-foot-long non-overflow abutment on the east bank; an 813-foot long, non-gated spillway section; and a 122-foot-long intake structure, equipped with four vertical lift gates and one canal gate, and extending to the west riverbank; (2) a 100 acre reservoir with gross storage capacity of 900 acre-feet at elevation 324.0 mean sea level; (3) a 1,600-foot-long, 30-foot-wide, 12-foot-high masonry and concrete sided headrace canal; (4) a 125-foot-long, 40-foot-wide brick powerhouse containing 3 turbine-generating units with a combined capacity of 2.84 megawatts; (5) a 550-foot-long tailrace, excavated in bedrock and returning flow to the river channel; and (6) a 1,006-foot-long, 2.4 kilovolt (kV) transmission line to a transformer, with a 794-foot-long, 34.5 kV transmission line to the interconnection with the local grid.

PE Hydro operates the project in a run-of-river mode, with a minimum flow of 200 cfs, or inflow, whichever is less. Under an agreement with the US Fish and Wildlife Service the licensee shuts down Project nightly from September 15 to December 15 in an effort to reduce entrainment of downstream-migrating American eels. The project generates an annual average of 10,159.431 MWh.

l. A copy of the application is available for review at the Commission in the Public Reference Room or may be viewed on the Commission's Web site at http://www.ferc.gov, using the “eLibrary” link. Enter the docket number excluding the last three digits in the docket number field to access the document. For assistance, contact FERC Online Support at FERCOnlineSupport@ferc.gov, (866) 208-3676 (toll free), or (202) 502-8659 (TTY). A copy is also available for inspection and reproduction at the address in item (h) above.

You may also register online at http://www.ferc.gov/docs-filing/esubscription.asp to be notified via email of new filings and issuances related to this or other pending projects. For assistance, contact FERC Online Support.

m. Procedural Schedule: The application will be processed according to the following preliminary Hydro Licensing Schedule. Revisions to the schedule will be made as appropriate.

Notice of Acceptance/Notice of Ready for Environmental Analysis | February 2016.
Filing of recommendations, preliminary terms and conditions, and fishway prescriptions | April 2016.
Commission issues EA | August 2016.
Comments on EA | September 2016.
Modified Terms and Conditions | November 2016.
Commission Issues Final EA, if necessary | February 2017.

o. Final amendments to the application must be filed with the Commission no later than 30 days from the issuance date of the notice of ready for environmental analysis.

Dated: January 12, 2016.
Nathaniel J. Davis, Sr.,
Deputy Secretary.

[FR Doc. 2016-00819 Filed 1-15-16; 8:45 am]

BILLING CODE 6717-01-P